DEPARTMENT OF THE INTERIOR

Bureau of Land Management

[LLCAC09000/L16100000.DU0000/18XL1109AF/LXSSB0060000; (MO#4500132920)]

Notice of Intent To Prepare a Resource Management Plan Amendment for the Cotoni-Coast Dairies Unit of the California Coastal National Monument, and To Prepare an Associated Environmental Assessment, Santa Cruz County, CA

AGENCY: Bureau of Land Management, Interior.

ACTION: Notice of intent.

SUMMARY: In accordance with the National Environmental Policy Act of 1969, as amended (NEPA), and the Federal Land Policy and Management Act of 1976, as amended, the Bureau of Land Management (BLM), Central Coast Field Office, Marina, California, intends to prepare a Resource Management Plan (RMP) amendment with an associated Environmental Assessment (EA) for the California Coastal National Monument RMP. This RMP amendment will provide management direction for the Cotoni-Coast Dairies Unit of the California Coastal National Monument. In particular, management direction is needed to provide opportunities for public access and recreation on the public lands. This notice announces the beginning of the scoping process to solicit public comments and help identify issues and planning criteria.

DATES: Comments on issues may be submitted in writing until July 24, 2019, or 15 days after the last public meeting, whichever is later. The date(s) and location(s) of any scoping meetings will be announced at least 15 days in advance via the BLM California website at https://go.usa.gov/xEJAw. In order to be included in the analysis, the BLM must receive all comments prior to the close of the 30-day scoping period, or 15 days after the last public meeting, whichever is later. The BLM will provide additional opportunities for public participation as appropriate.

ADDRESSES: You may submit comments on issues and planning criteria related to the Cotoni-Coast Dairies RMP amendment and EA by any of the following methods:

• Website: https://go.usa.gov/xEJAw.

• Email: blm_ca_cotoni_coast_dairies@blm.gov.

• Fax: (831) 582-2266.

• Mail: Bureau of Land Management, Central Coast Field Office, Attn: Cotoni-Coast Dairies RMPA/EA, 940 2nd Ave., Marina, CA 93933-6009.

Documents pertinent to this proposal may be examined at the BLM's Central Coast Field Office, 940 2nd Ave., Marina, CA 93933-6009.

FOR FURTHER INFORMATION CONTACT: Sky Murphy, Planning and Environmental Coordinator, Central Coast Field Office, telephone, (831) 582-2200; address, 940 2nd Ave., Marina, CA 93933-6009; or by email ccnm@blm.gov. Persons who use a telecommunications device for the deaf may call the Federal Relay Service (FRS) at (800) 877-8339 to contact the above individual during normal business hours. The FRS is available 24 hours a day, 7 days a week, to leave a message or question. You will receive a reply during normal business hours.

SUPPLEMENTARY INFORMATION: The planning area is in Santa Cruz County, California, and encompasses approximately 5,840 acres of public land, donated to the BLM by the Trust for Public Land in 2014. Since 2014, the property has been accessible to the public for guided tours only. On January 12, 2017, Presidential Proclamation 9563 added the public lands to the California Coastal National Monument. This proclamation called for the Cotoni-Coast Dairies Unit to be available for public access upon the BLM's completion of a management plan.

The current RMP for the California Coastal National Monument, completed in 2005, provides management direction for thousands of rocks and islands off the coast of California. The purpose of the RMP amendment and associated EA is to establish land use decisions, management actions, and allowable uses for the Cotoni-Coast Dairies Unit of the California Coastal National Monument. The need for the RMP amendment and associated EA is to provide opportunities for public access and recreation at the Cotoni-Coast Dairies Unit, while ensuring care for the objects and values identified in Presidential Proclamation 9563.

The purpose of the public scoping process is to determine relevant issues that will influence the scope of the environmental analysis, including alternatives, and guide the planning process. Federal, State and local agencies, BLM personnel, and other stakeholders have identified preliminary issues for the RMP mendment. These issues include public access and recreation opportunities, management of threatened and endangered species and their associated habitats, water quality, livestock grazing, cultural and historic resources, fire and fuels management, and public safety.

Preliminary planning criteria include:

1. Recognize valid existing rights, including deed restrictions, rights-of-way, and water rights;

2. Comply with existing law, executive orders, regulations, and BLM policy and program guidance;

3. Ensure consistency with the January 12, 2017, Presidential Proclamation that designated the property as the Cotoni-Coast Dairies Unit of the California Coastal National Monument;

4. Comply with BLM Rangeland Health Standards and Livestock Grazing Guidelines for Central California;

5. Consider adjoining non-public lands when making management decisions to minimize land use conflicts; and

6. Consider cost effectiveness and feasibility of proposed actions and alternatives.

You may submit comments on issues and planning criteria in writing to the BLM at any public scoping meeting, or you may submit them to the BLM using one of the methods listed in the ADDRESSES section earlier.

The BLM will use the NEPA scoping process to help fulfill the public involvement process under section 106 of the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in, or affected by, the proposed action under BLM evaluation, are invited to participate in the scoping process and, if eligible, may request or be asked by the BLM to participate in the development of the environmental analysis as a cooperating agency.

The BLM will evaluate identified issues to be addressed in the plan, and will place them into one of three categories:

1. Issues to be resolved in the plan amendment;

2. Issues to be resolved through policy or administrative action; or

3. Issues beyond the scope of this plan amendment.

The BLM will provide an explanation in the draft RMP amendment as to why an issue was placed in category two or three. The public is also encouraged to help identify management questions and concerns that should be addressed in the plan. The BLM will work collaboratively with interested parties to identify the management decisions that are best suited to local, regional, and national needs and concerns.

The BLM will use an interdisciplinary approach to develop the plan amendment to consider the variety of resource issues and concerns identified. Specialists with expertise in the following disciplines will be involved in the planning process: Rangeland management, outdoor recreation, archaeology, biology (plants and wildlife), soils, geology and hydrology, fire and fuels, and lands and realty.

Before including your address, phone number, email address, or other personal identifying information in your comment, you should be aware that your entire comment—including your personal identifying information—could be made publicly available at any time. While you can ask us in your comment that your personal identifying information be withheld from public review, we cannot guarantee that we will be able to do so.

(Authority: 40 CFR 1501.7 and 43 CFR 1610.2)

Danielle Chi,
Deputy State Director, Resources and Fire.

[FR Doc. 2019-13387 Filed 6-21-19; 8:45 am]

BILLING CODE 4310-40-P